DEPARTMENT OF AGRICULTURE

Natural Resources Conservation Service

Rehabilitation of Aging Flood Control Dams in Oklahoma

AGENCY: Natural Resources Conservation Service (NRCS).

ACTION: Notice of availability of record of decision.

SUMMARY: M. Darrel Dominick, responsible Federal official for projects administered under the provisions of Section 14 of Public Law 83-566 (enacted by Section 313 of Public Law 106-472, otherwise known as “The Small Watershed Rehabilitation Amendments of 2000”) in the State of Oklahoma, is hereby providing notification that a record of decision to proceed with the installation of the Rehabilitation of Aging Flood Control Dams in Oklahoma is available. Single copies of this record of decision may be obtained from M. Darrel Dominick at the address shown below.

FOR FURTHER INFORMATION CONTACT: M. Darrel Dominick, State Conservationist, Natural Resources Conservation Service, State Office, 100 USDA Suite 206, Stillwater, Oklahoma, 74074-2655, telephone (405) 742-1227.

Dated: November 22, 2002.
M. Darrel Dominick,
State Conservationist.

(This activity is listed in the Catalog of Federal Domestic Assistance under No. 10.904, Watershed Protection and Flood Prevention, and is subject to the provisions of Executive Order 12372, which requires intergovernmental consultation with State and local officials)

[FR Doc. 02-30910 Filed 12-5-02; 8:45 am]

BILLING CODE 3410-16-P